DEPARTMENT OF ENERGY

Federal Energy Regulatory Commission

[Project No. 10359-027]

Snoqualmie River Hydro; Notice of Withdrawal of Application To Surrender License

June 30, 2003.

By letter, filed November 13, 2002, Snoqualmie River Hydro (licensee or Snoqualmie) requested to surrender the license for the 7.5 megawatt Youngs Creek Hydroelectric Project (P-10359),¹ located on Youngs Creek near the town of Sultan, in Snohomish County, Washington. The project is not constructed. A notice of application for surrender was issued on December 23, 2002, and no comments, protest, or motions to intervene were filed. By letter filed March 21, 2003, the licensee subsequently requested to withdraw the initial request for surrender of the license. The licensee stated that the request to surrender the license was made in error remains in effect.

¹ 59 FERC ¶ 62, 124 (1992).

Because the Commission has not taken final action on the application to surrender, Snolqualmie's request to withdraw its surrender request is granted and its license for the Youngs Creek Project remains in effect.

Magalie R. Salas,
Secretary.

[FR Doc. 03-17150 Filed 7-7-03; 8:45 am]

BILLING CODE 6717-01-P